DEPARTMENT OF ENERGY

Federal Energy Regulatory Commission

[Docket No. ER01-1517-001]

Florida Power & Light Company; Notice of Filing

April 20, 2001.

Take notice that on April 10, 2001, Florida Power & Light Company (FPL) tendered for filing with the Federal Energy Regulatory Commission (Commission), amendments to its proposed service agreements with AXIA Energy LP for Non-Firm transmission service and Firm transmission service under FPL's Open Access Transmission Tariff.

FPL requests that the proposed service agreements become effective on March 16, 2001.

FPL states that this filing is in accordance with Section 35 of the Commission's regulations.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before May 1, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-10330 Filed 4-25-01; 8:45 am]

BILLING CODE 6717-01-M